FEDERAL MARITIME COMMISSION

Ocean Transportation Intermediary License; Revocation

The Federal Maritime Commission hereby gives notice that the following Ocean Transportation Intermediary licenses have been revoked pursuant to section 19 of the Shipping Act of 1984 (46 U.S.C. Chapter 409) and the regulations of the Commission pertaining to the licensing of Ocean Transportation Intermediaries, 46 CFR part 515, effective on the corresponding date shown below:

License Number: 000167NF.

Name: Westfeldt Brothers Forwarders Inc. dba Global Direct Lines.

Address: 6101 Terminal Drive, New Orleans, LA 70115.

Date Revoked: June 3, 2011.

Reason: Failed to maintain valid bonds.

License Number: 001362F.

Name: Malvar Freight Forwarding Service, Inc.

Address: 4141 NW 36th Avenue, Miami, FL 33142.

Date Revoked: June 30, 2011.

Reason: Failed to maintain a valid bond.

License Number: 003644NF.

Name: Forward Logistics Group, Inc.

Address: 10651 Satellite Blvd., Orlando, FL 32837.

Date Revoked: June 11, 2011.

Reason: Failed to maintain valid bonds.

License Number: 003704N.

Name: American One Freight Forwarders, Inc.

Address: 3515 NW 114th Avenue, Doral, FL 33178.

Date Revoked: June 23, 2011.

Reason: Failed to maintain a valid bond.

License Number: 012927N.

Name: Asecomer International Corporation dba Interworld Freight, Inc. dba Junior Cargo, Inc.

Address: 8225 NW 80th Street, Miami, FL 33166.

Date Revoked: June 22, 2011.

Reason: Failed to maintain a valid bond.

License Number: 015605N.

Name: Solid Trans Inc.

Address: 1401 S. Santa Fe Avenue, Compton, CA 90221.

Date Revoked: June 5, 2011.

Reason: Failed to maintain a valid bond.

License Number: 017807N.

Name: Spartan Shipping, Inc.

Address: 1890 NW 82th Avenue, Suite 110, Miami, FL 33126.

Date Revoked: June 23, 2011.

Reason: Failed to maintain a valid bond.

License Number: 019364F.

Name: New Life Health Care Services, LLC. dba New Life Marine Services.

Address: 3527 Brackenfern Road, Katy, TX 77449.

Date Revoked: June 9, 2011.

Reason: Failed to maintain a valid bond.

License Number: 019411N.

Name: General Express Freight, Inc.

Address: 10501 Valley Blvd., Suite 1804, El Monte, CA 91731.

Date Revoked: June 22, 2011.

Reason: Failed to maintain a valid bond.

License Number: 019417NF.

Name: Senaduana Freight Forwarders, Inc.

Address: 7778 NW 46th Street, Miami, FL 33166.

Date Revoked: June 12, 2011.

Reason: Failed to maintain valid bonds.

License Number: 019597N.

Name: United Cargo International, Inc.

Address: 24782 Industrial Blvd., Bldg. F, Suite 7, Hayward, CA 94545.

Date Revoked: June 4, 2011.

Reason: Failed to maintain a valid bond.

License Number: 019835F.

Name: AM Worldwide, Inc.

Address: 2928 B Greens Road, Suite 450, Houston, TX 77032.

Date Revoked: June 3, 2011.

Reason: Failed to maintain a valid bond.

License Number: 020297N.

Name: Lorimer Cargo Express, Inc.

Address: 6546 Pembroke Road, Miramar, FL 33023.

Date Revoked: June 6, 2011.

Reason: Failed to maintain a valid bond.

License Number: 020693F.

Name: Jamaica Worldwide Shipping Inc. dba Caribeuro Shipping.

Address: 4101 Elrey Road, Suite 14-A, Orlando, FL 32808.

Date Revoked: June 1, 2011.

Reason: Failed to maintain a valid bond.

License Number: 020912N.

Name: CNF International, Inc.

Address: 550 E. Carson Plaza, Suite 112, Carson, CA 90746.

Date Revoked: June 18, 2011.

Reason: Failed to maintain a valid bond.

License Number: 021812N.

Name: Felman Cargo Group, LLC.

Address: 94-877 Farrington Hwy, Suite B, Waipahu, HI 96797.

Date Revoked: June 24, 2011.

Reason: Failed to maintain a valid bond.

License Number: 021890F.

Name: Empire Global Logistics, LLC.

Address: 160-51 Rockaway Blvd., Suite 206, Jamaica, NY 11434.

Date Revoked: June 9, 2011.

Reason: Failed to maintain a valid bond.

License Number: 021930NF.

Name: Huntington International, Inc.

Address: 411 E. Huntington Drive, Suite 312, Arcadia, CA 91006.

Date Revoked: June 22, 2011.

Reason: Failed to maintain valid bonds.

License Number: 022113F.

Name: Movendo USA, Inc.

Address: 1110 South Avenue, Suite 33, Staten Island, NY 10301.

Date Revoked: June 2, 2011.

Reason: Failed to maintain a valid bond.

License Number: 022541NF.

Name: Oceanair Forwarding, Inc.

Address: 11232 St. Johns Industrial Parkway North, Suite 6, Jacksonville, FL 32246.

Date Revoked: June 13, 2011.

Reason: Failed to maintain valid bonds.

License Number: 022605F.

Name: AK Solutions Inc.

Address: 10034 Halston Drive, Sugarland, TX 77498.

Date Revoked: June 2, 2011.

Reason: Failed to maintain a valid bond.

License Number: 022639NF.

Name: Geevee Enterprises, Inc. dba Aerosend.

Address: 245 W. Roosevelt Road, Bldg. 12, Unit 90, West Chicago, IL 60185.

Date Revoked: June 25, 2011.

Reason: Failed to maintain valid bonds.

Sandra L. Kusumoto,
Director, Bureau of Certification and Licensing.

[FR Doc. 2011-18650 Filed 7-22-11; 8:45 am]

BILLING CODE 6730-01-P